OFFICE OF PERSONNEL MANAGEMENT

5 CFR Part 890

RIN 3206-AO18

Access to Federal Employees Health Benefits (FEHB) for Employees of Certain Tribally Controlled Schools; Extension of Comment Period

AGENCY: Office of Personnel Management.

ACTION: Interim final rule; extension of comment period.

SUMMARY: The Office of Personnel Management (OPM) is extending the comment period to ensure that stakeholders have sufficient opportunity to submit comments on the interim final rule expanding access to FEHB for employees of certain tribally controlled schools.

DATES: The comment period for the interim final rule published on September 3, 2021, at 86 FR 49461, is extended. Written reply comments must be submitted no later than November 20, 2021.

ADDRESSES: You may submit comments, identified by docket number and/or Regulatory Information Number (RIN) and title, by the following method:

• Federal Rulemaking Portal: http://www.regulations.gov. Follow the instructions for submitting comments.

All submissions received must include the agency name and docket number or RIN for this document. The general policy for comments and other submissions from members of the public is to make these submissions available for public viewing at http://www.regulations.gov as they are received without change, including any personal identifiers or contact information.

FOR FURTHER INFORMATION CONTACT: Julia Elam, Program Analyst, at julia.elam@opm.gov or (202) 606-2128.

SUPPLEMENTARY INFORMATION: OPM published an interim final rule, Access to Federal Employees Health Benefits (FEHB) for Employees of Certain Tribally Controlled Schools, 86 FR 49461 on September 3, 2021. OPM provided 60 days for the public to comment on the interim final rule. However, comments were not accepted on regulations.gov during the first 18 days of the comment period due to a technical error. Therefore, we are extending the period for public comment on the interim final rule from November 2, 2021 to November 20, 2021.

Office of Personnel Management.
Alexys Stanley,
Regulatory Affairs Analyst.

[FR Doc. 2021-23739 Filed 11-1-21; 8:45 am]

BILLING CODE 6325-64-P